DEPARTMENT OF TRANSPORTATION

Federal Aviation Administration

Public Notice for Sale of Airport Property at Houlton International Airport, Houlton, ME

AGENCY: Federal Aviation Administration (FAA), DOT.

ACTION: Request for public comments.

SUMMARY: The FAA is requesting public comment on the Town of Houlton, Maine's request to sell (.73 acres) of Airport property. The property was acquired from the United States Government under Surplus Property Deed dated July 14, 1947. This property was sold to a fixed based operator. The request for release is to correct a compliance finding.

Section 125 of The Wendell H. Ford Aviation Investment and Reform Act for the 21st Century (AIR 21) requires the FAA to provide an opportunity for public notice and comment to the “waiver” or “modification” of a sponsor's Federal obligation to use certain airport property for aeronautical purposes.

The revenue generated from the disposal of airport property was used in accordance with FAA's Policy and Procedures Concerning the Use of Airport Revenue, published in the Federal Register on February 16, 1999.

DATES: Comments must be received on or before October 18, 2010.

ADDRESSES: Documents are available for review by appointment by contacting Mr. Douglas Hazlett, Town Manager, Telephone 207-532-7111 or by contacting Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803, Telephone 781-238-7624.

SUPPLEMENTARY INFORMATION: The following is a legal description of the property:

A certain parcel of land located at Houlton International Airport in Houlton, County of Aroostook and State of Maine and being more particularly described as follows: Commencing at a three-quarter inch (¾″) iron pipe marking the southwest corner of Lot Seventeen (17) as shown on plan titled: “1984 Addition of Lots Numbered 1 through 20 at the Airport Industrial Park, Houlton, Maine”, recorded in the Southern Aroostook Registry of Deeds in Plan Book 36, Page 37, said corner marking the boundary between Lot Seventeen (17) and Sixteen (16) and being on the easterly right of way line of “C” Street; thence westerly on a course bearing South eighty-eight degrees thirty minutes fifty-one seconds West (S 88° 30′ 51″ W) for a distance of two hundred fifty-three and twenty-four hundredths (253.24) feet to a steel pin driven into the ground; said pin being known hereafter as the point of beginning of the herein described parcel of land; thence westerly on a course bearing North fifty-nine degrees twenty-six minutes twenty-three seconds West (N 59° 26′ 23″ W) for a distance of one hundred fifty and zero hundredths (150.00) feet to a steel pin driven into the ground; thence southerly on a course bearing South thirty degrees thirty-three minutes thirty-seven seconds West (S 30° 33′ 37″ W) for a distance of two hundred eleven and zero hundredths (211.00) feet to a steel pin driven into the ground; thence easterly on a course bearing South fifty-nine degrees twenty-six minutes twenty-three seconds East (S 59° 26′ 23″ E) for a distance of one hundred fifty and zero hundredths (150.00) feet to a steel pin driven into the ground; thence northerly on a course bearing North thirty degrees thirty-three minutes thirtyseven seconds East (N 30° 33′ 37″ E) for a distance of two hundred eleven and zero hundredths (211.00) feet to the point of beginning.

Issued in Burlington, Massachusetts on August 26, 2010.
LaVerne F. Reid,
Manager, Airports Division, New England Region.

[FR Doc. 2010-22872 Filed 9-16-10; 8:45 am]

BILLING CODE 4910-13-M